DEPARTMENT OF LABOR

Employment and Training Administration

Agency Information Collection Activities; Comment Request; Work Opportunity Tax Credit

ACTION: Notice.

SUMMARY: The Department of Labor's (DOL) Employment and Training Administration (ETA) is soliciting comments concerning a proposed extension with revisions for the authority to conduct the information collection request (ICR) titled, “Work Opportunity Tax Credit (WOTC).” This comment request is part of continuing Departmental efforts to reduce paperwork and respondent burden in accordance with the Paperwork Reduction Act of 1995 (PRA).

DATES: Consideration will be given to all written comments received by January 16, 2023

ADDRESSES: A copy of this ICR with applicable supporting documentation, including a description of the likely respondents, proposed frequency of response, and estimated total burden, may be obtained free by contacting The National WOTC Team by telephone at 202-693-3980 (this is not a toll-free number), TTY 202-693-8064 (this is not a toll-free number), or by email at Ask.WOTC@dol.gov.

Submit written comments about, or requests for a copy of, this ICR by mail or courier to the U.S. Department of Labor, Employment and Training Administration, Office of Workforce Investment, Attn: National WOTC Team, 200 Constitution Avenue NW, Suite C-4510, Washington, DC, 20210; or by email: Ask.WOTC@dol.gov.

FOR FURTHER INFORMATION CONTACT: LaToria Strickland, Office of Workforce Investment, by telephone at 202-693-2811 (this is not a toll-free number) or by email at Strickland.LaToria.M@dol.gov.

Authority: 44 U.S.C. 3506(c)(2)(A).

SUPPLEMENTARY INFORMATION: DOL, as part of continuing efforts to reduce paperwork and respondent burden, conducts a pre-clearance consultation program to provide the general public and federal agencies an opportunity to comment on proposed and/or continuing collections of information before submitting them to the Office of Management and Budget (OMB) for final approval. This program helps to ensure requested data can be provided in the desired format, reporting burden (time and financial resources) is minimized, collection instruments are clearly understood, and the impact of collection requirements can be properly assessed.

This ICR collects WOTC program information, including activities conducted by state workforce agencies to review and process employers' certification requests. The WOTC is a federal tax credit available to employers for hiring individuals from certain targeted groups who have consistently faced significant barriers to employment. The WOTC program is authorized under §§ 51 and 3111(e) of the Internal Revenue Code of 1986 (Code), as amended, and the Small Business Job Protection Act of 1996, (Pub. L. 104-188), including Title 26 U.S.C. The WOTC is authorized until December 31, 2025, under the Consolidated Appropriations Act, 2021 (Pub. L. 116-260), Division EE, Title 1, Sec. 113. OMB Control No. 1205-0371 authorizes this information collection. This submission includes seven WOTC processing and administrative forms, as follows:

(1) ETA Form 9061, Revised March 2021—Individual Characteristics Form (ICF) and ETA Form 9061, Spanish version ICF, Revised March 2021;

(2) ETA Form 9062, Revised March 2021—Conditional Certification;

(3) ETA Form 9175, Revised March 2021—Self-Attestation Form (SAF) for Qualified Long-Term Unemployment Recipient (LTUR);

(4) ETA Form 9063, Revised March 2021—Employer Certification;

(5) ETA Form 9058, Revised March 2021—Certification Workload and Characteristics of Certified Individuals;

(6) ETA Form 9065, Revised March 2021—Agency Declaration of Verification Results Worksheet (ADVR); and

(7) ETA Form 9198, Employer Representative Declaration Form.

This information collection is subject to the PRA. A federal agency generally cannot conduct or sponsor a collection of information, and the public is generally not required to respond to an information collection, unless it is approved by OMB under the PRA and displays a currently valid OMB Control Number. In addition, notwithstanding any other provisions of law, no person shall generally be subject to penalty for failing to comply with a collection of information that does not display a valid Control Number. See 5 CFR 1320.5(a) and 1320.6.

Interested parties are encouraged to provide comments to the contact shown in the ADDRESSES section. Comments must be written to receive consideration, and they will be summarized and included in the request for OMB approval of the final ICR. In order to help ensure appropriate consideration, comments should mention OMB Control Number 1205-0371. Submitted comments will also be a matter of public record for this ICR and posted on the internet, without redaction. DOL encourages commenters not to include personally identifiable information, confidential business data, or other sensitive statements/information in any comments.

DOL is particularly interested in comments that:

• Evaluate whether the proposed collection of information is necessary for the proper performance of the functions of the Agency, including whether the information will have practical utility;

• Evaluate the accuracy of the Agency's estimate of the burden of the proposed collection of information, including the validity of the methodology and assumptions used;

• Enhance the quality, utility, and clarity of the information to be collected; and

• Minimize the burden of the collection of information on those who are to respond, including through the use of appropriate automated, electronic, mechanical, or other technological collection techniques or other forms of information technology, (e.g., permitting electronic submission of responses).

Agency: DOL-ETA.

Type of Review: Revision.

Title of Collection: Work Opportunity Tax Credit (WOTC).

Form(s): ETA 9061, Individual Characteristics Form (ICF); ETA 9061, Spanish version of ICF; ETA 9062, Conditional Certification; ETA 9175, Self-Attestation Form (SAF) for Qualified Long-Term Unemployment Recipient (LTUR); ETA 9063, Employer Certification; ETA 9058, Certification Workload and Characteristics of Certified Individuals; ETA 9065, Agency Declaration of Verification Results Worksheet (ADVR); and ETA Form 9198, Employer Representative Declaration Form.

OMB Control Number: 1205-0371.

Affected Public: State Workforce Agencies (SWAs), Private Sector, Individuals or Households and 501(c) Tax-Exempt organizations hiring certain qualified veterans.

Estimated Number of Respondents: 8,742,593.¹

¹ The estimated number for total respondents for Fiscal Year 2021 is derived by adding the SWAs' total workload (2,081,474 certifications issued; 4,042,234 denials issued; and 2,618,832 pending applications) with the total number of state grantees (53).

Frequency: Varies.

Total Estimated Annual Responses: 18,604,708.²

² The estimated number for total annual responses for FY 2021 is derived by combining the unduplicated totals for processing forms completed by employers/jobseekers (9,418,722); SWA reporting forms (424); total determinations issued by the SWAs (6,123,708); and processing of Employer Representative Declarations, ETA Form 9198 (3,061,854).

Estimated Average Time per Response: Varies.

Estimated Total Annual Burden Hours: 10,205,4167.

Total Estimated Annual Other Cost Burden: $0.00.

Brent Parton,
Acting Assistant Secretary for Employment and Training, Labor.

[FR Doc. 2022-25037 Filed 11-16-22; 8:45 am]

BILLING CODE 4510-FN-P